DEPARTMENT OF HEALTH AND HUMAN SERVICES

Administration for Children and Families

Submission for Office of Management and Budget Review; Community Services Block Grant (CSBG) Model Tribal Plan Applications (New Collection)

AGENCY: Office of Community Services, Administration for Children and Families, U.S. Department of Health and Human Services.

ACTION: Request for public comments.

SUMMARY: The Office of Community Services (OCS), Administration for Children and Families (ACF), requests an approval of the Community Services Block Grant (CSBG) Model Tribal Plan.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: Section 677 of the CSBG Act requires Indian tribes or tribal organizations to submit an application and plan (CSBG Model Tribal Plan). The CSBG Model Tribal Plan must meet statutory requirements prior to OCS awarding CSBG tribal grant recipients with CSBG funds. Tribal grant recipients have the option to submit a detailed plan annually or biannually. Tribal grant recipients that submit a biannual plan must provide an abbreviated plan the following year if substantial changes to the initial plan will occur. The CSBG Model Tribal Plan has been used in previous years without OMB approval. To come into compliance with the PRA, ACF is submitting the CSBG Model Tribal Plan as a new request to OMB.

Respondents: Tribal grant recipients (tribes and tribal organizations)

Annual Burden Estimates
Instrument | Total number of respondents | Annual number of responses per respondent | Average burden hours per response | Annual burden hours
CSBG Model Tribal Plan | 66 | 1 | 10 | 660

Authority: Sec. 677, Pub. L. 105-285, 112 Stat. 2742 (42 U.S.C. 9911).

Mary C. Jones,
ACF/OPRE Certifying Officer.

[FR Doc. 2024-16595 Filed 7-26-24; 8:45 am]

BILLING CODE 4184-27-P